DEPARTMENT OF TRANSPORTATION

Office of the Secretary

[Docket No. DOT-OST-2009-0092]

Notice of Request for Continuation of Data Collection

AGENCY: Office of the Secretary, DOT.

ACTION: Notice.

SUMMARY: In accordance with the Paperwork Reduction Act of 1995, this notice announces the Department of Transportation's (DOT) intention to extend the use of OMB# 2105-0557 Applicant Background Questionnaire.

DATES: Comments on this notice must be received by August 11, 2009.

ADDRESSES: You may submit comments identified by DOT Docket Number DOT-OST-2009-0092 by any of the following methods:

• Federal eRulemaking Portal: Go to http://www.regulations.gov. Follow the online instructions for submitting comments.

• Mail or Hand Delivery: Docket Management Facility; U.S. Department of Transportation, 1200 New Jersey Avenue, SE., West Building, Room W12-140, Washington, DC 20590-001, between the hours of 9 a.m. and 5 p.m., Monday through Friday, except Federal holidays.

• Fax: 1-202-493-2251.

Instructions: All submissions must include the agency name and docket number. Note that all comments received will be posted without change to http://www.regulations.gov, including any personal information provided. You may review DOT's complete Privacy Act Statement in the Federal Register published on April 11, 2000 (65 FR 19477-78) or you may visit http://DocketInfo.dot.gov.

Docket: For access to the docket to read background documents or comments received, go to http://www.regulations.gov or you may visit Docket Management Facility, U.S. Department of Transportation, 1200 New Jersey Avenue, SE., West Building, Room W12-140, Washington, DC 20590, between the hours of 9 a.m. and 5 p.m., Monday through Friday, except Federal holidays.

FOR FURTHER INFORMATION CONTACT: Deborah Perkins, Departmental Office of Human Resources, Office of the Secretary, U.S. Department of Transportation, 1200 New Jersey Ave., SE., Washington, DC 20590, (202) 366-9447.

SUPPLEMENTARY INFORMATION: Title: Applicant Background Questionnaire.

OMB Control Number: OMB# 2105-0557.

Type of Request: Renewal of a previously approved document.

Abstract: The purpose of the collection is to standardize the collection of race, ethnicity, sex, national origin, and disability status from applicants for positions within all DOT Operating Administrations. This information will assist the DOT in monitoring programs and will be the basis for several different reports required by statute.

Background: The DOT is required to analyze the civil rights impact(s) of policies, actions, or decisions that affect Federally conducted programs and activities, and the DOT workforce. In order to assess the civil rights impact, data on recruitment, employment, and diversity must be analyzed in a consistent manner with respect to the race, ethnicity, sex, national origin, disability status, and age of applicants and employees.

The goal of this collection is to provide a method for the comprehensive collection of race, ethnicity, sex, national origin, and disability status and thereby reduce the burden on applicants and employees to provide this type of information.

Respondents: Employees upon initial hire and applicants for positions.

Estimated Number of Respondents: 93,000.

Estimated Total Burden on Respondents: 3 minutes.

Comments are invited on: (a) Whether the proposed collection of information is necessary for the proper performance of the functions of the Department, including whether the information will have practical utility as described; (b) the accuracy of the Department's estimate of burden of the proposed collection of information, including the validity of methodology and assumptions used; (c) ways to enhance the quality, utility, and clarity of the information to be collected; and (d) ways to minimize the burden of the collection of information on those who are to respond, including the use of appropriate, automated, electronic, mechanical or other technology. Comments should be addressed to the address in the preamble. All responses to this notice will be summarized and included in the request for Office of Management and Budget (OMB) approval. All comments will also become a matter of public record.

Issued in Washington, DC on June 1, 2009.
Nancy A. Mowry,
Director, Departmental Office of Human Resource Management.

BILLING CODE 4910-9X?-P

[FR Doc. E9-13823 Filed 6-11-09; 8:45 am]

BILLING CODE 4910-9X-C